NUCLEAR REGULATORY COMMISSION

10 CFR Part 72

[NRC-2014-0058]

RIN 3150-AJ39

NAC International MAGNASTOR® System, Certificate of Compliance No. 1031, Amendment No. 4

AGENCY: Nuclear Regulatory Commission.

ACTION: Direct final rule; confirmation of effective date.

SUMMARY: The U.S. Nuclear Regulatory Commission (NRC) is confirming the effective date of April 14, 2015, for the direct final rule that was published in the Federal Register on January 29, 2015. This direct final rule amended the NRC's spent fuel storage regulations by revising the NAC International MAGNASTOR® System listing within the “List of approved spent fuel storage casks” to include Amendment No. 4 to Certificate of Compliance (CoC) No. 1031.

DATES: The effective date of April 14, 2015, is confirmed for the direct final rule published January 29, 2015 (80 FR 4757).

ADDRESSES: Please refer to Docket ID NRC-2014-0058 when contacting the NRC about the availability of information for this action. You may obtain publicly-available information related to this action by any of the following methods:

• Federal Rulemaking Web site: Go to http://www.regulations.gov and search for Docket ID NRC-2014-0058. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Robert D. MacDougall, Office of Nuclear Material Safety and Safeguards, U.S. Nuclear Regulatory Commission, Washington DC 20555-0001; telephone: 301-415-5175, email: Robert.MacDougall@nrc.gov.

SUPPLEMENTARY INFORMATION: On January 29, 2015 (80 FR 4757), the NRC published a direct final rule amending its regulations in § 72.214 of Title 10 of the Code of Federal Regulations by revising the NAC International MAGNASTOR® System listing within the “List of approved spent fuel storage casks” to include Amendment No. 4 to CoC No. 1031. Amendment No. 4 changes a limiting condition for operation in the technical specifications for transportable storage canister vacuum drying and helium backfill times, and corrects a typographical error. The NRC's approval of Amendment No. 4 does not authorize transportation.

In the direct final rule, the NRC stated that if no significant adverse comments were received, the direct final rule would become effective on April 14, 2015. The NRC did not receive any comments on the direct final rule. Therefore, this direct final rule will become effective as scheduled.

Dated at Rockville, Maryland, this 23rd day of March, 2015.
For the Nuclear Regulatory Commission.
Cindy Bladey,
Chief, Rules, Announcements, and Directives Branch, Division of Administrative Services, Office of Administration.

[FR Doc. 2015-07002 Filed 3-26-15; 8:45 am]

BILLING CODE 7590-01-P